DEPARTMENT OF TRANSPORTATION

Federal Highway Administration

Notice of Final Federal Agency Actions on Proposed Highways in Nevada

AGENCY: Federal Highway Administration (FHWA), DOT.

ACTION: Notice of Limitation on Claims for Judicial Review of Actions by FHWA and Other Federal Agencies.

SUMMARY: This notice announces actions taken by FHWA and other Federal agencies that are final. The actions relate to the Pyramid Highway/US 395 Connection Project located in Washoe County, Nevada. These actions grant licenses, permits, and approval of the project.

DATES: By this notice, FHWA is advising the public of final agency actions subject to 23 U.S.C. 139(l)(1). A claim seeking judicial review of the Federal agency actions on the listed highway project will be barred unless the claim is filed on or before July 11, 2019. If this date falls on a Saturday, Sunday, or legal holiday, parties are advised to file their claim no later than the business day preceding this date. If the Federal law that authorizes judicial review of a claim provides a time-period of less than 150 days for filing such claim, then that shorter time-period still applies.

FOR FURTHER INFORMATION CONTACT: For the FHWA: Mr. Abdelmoez Abdalla, Ph.D., Environmental Program Manager, Federal Highway Administration, 705 North Plaza Street, Carson City, Nevada 89701-0602; telephone: (775) 687-1231; email: abdelmoez.abdalla@dot.gov. The FHWA Nevada Division Office's regular business hours are from 7:30 a.m. to 4:00 p.m. (Pacific Standard Time). For the Nevada Department of Transportation (NDOT): Mr. Steve M. Cooke, P.E., Chief, Environmental Services Division, Nevada Department of Transportation, 1263 South Stewart Street, Carson City, Nevada 89712; telephone: (775) 888-7686; email: scooke@dot.nv.gov. The NDOT office's regular business hours are from 8:00 a.m. to 5:00 p.m. (Pacific Standard Time).

SUPPLEMENTARY INFORMATION: Notice is hereby given that FHWA and other Federal agencies have taken final agency actions related to the Pyramid Highway/US 395 Connection Project located in Washoe County, Nevada. The FHWA, in cooperation with the Nevada Department of Transportation (NDOT), prepared a Draft Environmental Impact Statement (EIS) (FHWA-NV-EIS-12-02-D) and Final EIS (FHWA-NV-EIS-12-02-F) to improve Pyramid Highway between Queen Way and Calle de la Plata and provide a new connection between Pyramid Highway and United States (US) 395 (referred to as the US 395 Connection). The project includes arterial improvements along approximately seven miles of Pyramid Highway from Queen Way to Calle de la Plata, and a new US 395 Connection that would start near Sparks Boulevard, run west along a ridge alignment, cross Sun Valley Boulevard south of Rampion Way, and terminate at the existing US 395/Parr Boulevard interchange, which would be modified to accommodate the new US 395 Connection. A new interchange for the US 395 Connection would be built west of Sun Valley Boulevard. The project includes improvements on Disc Drive between Pyramid Highway and Vista Boulevard, and would extend Disc Drive from Pyramid Highway west to the new US 395 Connection. Bicycle and pedestrian facility improvements would also be provided along new and improved roadways.

The actions by the Federal agencies, and the laws under which such actions were taken, are described in the Record of Decision (ROD) issued on December 7, 2018, and in other documents in the FHWA and NDOT project records. These documents are available by contacting FHWA or NDOT at the addresses provided above. The ROD can also be downloaded electronically from the project website at: http://www.pyramidus395connection.com or viewed at area public libraries.

This notice applies to all Federal agency decisions on the project as of the issuance date of this notice and all laws under which such actions were taken, including but not limited to:

1. General: National Environmental Policy Act (NEPA) [42 U.S.C. 4321-4351]; Federal-Aid Highway Act (FAHA) [23 U.S.C. 109 as amended by the Fast Act Section 1404(a) and 23 U.S.C. 128];

2. Air: Clean Air Act [42 U.S.C. 7401-7671(q)] (Transportation Conformity, 40 CFR part 93).

3. Noise: Procedures for Abatement of Highway Traffic Noise and Construction Noise [23 U.S.C. 109(h), 109(i); 42 U.S.C. 4331, 4332; sec. 339(b), Public Law 104-59, 109 Stat. 568, 605; 49 CFR 1.48(b)].

4. Land: Section 4(f) of the Department of Transportation Act of 1966 [23 U.S.C. 138 and 49 U.S.C. 303] and Section 6(f) of the Land and Water Conservation Act as amended [16 U.S.C. 4601]; 23 CFR 774.

5. Historic and Cultural Resources: Section 106 of the National Historic Preservation Act of 1966, as amended [54 U.S.C. 306108]; Archeological and Historic Preservation Act of 1974 [16 U.S.C. 469-469(c)].

6. Wildlife: Endangered Species Act [16 U.S.C. 1531-1544 and Section 1536]; Fish and Wildlife Coordination Act [16 U.S.C. 661-667(e)]; Migratory Bird Treaty Act [16 U.S.C. 703-712].

7. Social and Economic: Civil Rights Act of 1964 [42 U.S.C. 2000 (d)-2000 (d)(1)].

8. Executive Orders: E.O. 11990, Protection of Wetlands; E.O. 11988, Floodplain Management; E.O. 12898, Federal Actions to Address Environmental Justice in Minority Populations and Low Income Populations; E.O. 11593, Protection and Enhancement of Cultural Resources; E.O. 13287, Preserve America; E.O. 11514, Protection and Enhancement of Environmental Quality; E.O. 13112, Invasive Species.

(Catalog of Federal Domestic Assistance Program No. 20.205, Highway Research, Planning and Construction. The regulations implementing Executive Order 12372 regarding intergovernmental consultation on Federal programs and activities apply to this program.)

Authority: 23 U.S.C. 139(l)(1), as amended by the Moving Ahead for Progress Act, Pub. L. 112-141, section 1308, 126 Stat. 405 (2012).

Issued on: January 31, 2019.
Susan Klekar,
Division Administrator, Carson City, Nevada.

[FR Doc. 2019-01630 Filed 2-8-19; 8:45 am]

BILLING CODE 4910-RY-P